GENERAL SERVICES ADMINISTRATION

[Notice MG-2022-01; Docket No. 2022-0002; Sequence No. 1]

Office of Federal High-Performance Green Buildings; Green Building Advisory Committee; Notification of Upcoming Web-Based Public Meeting

AGENCY: Office of Government-wide Policy, General Services Administration (GSA).

ACTION: Notice of public meeting.

SUMMARY: Notice of this web-based public meeting is being provided in accordance with the Federal Advisory Committee Act. This notice provides the date for the Green Building Advisory Committee meeting, which is open to the public. Interested individuals must register to attend as instructed below under SUPPLEMENTARY INFORMATION.

DATES: The Green Building Advisory Committee will hold a web-based public meeting on Monday, April 18, 2022 from 11:00 a.m. to 5:00 p.m. Eastern Time (ET).

FOR FURTHER INFORMATION CONTACT: Dr. Ken Sandler, Designated Federal Officer, Office of Federal High-Performance Green Buildings, Office of Government-wide Policy, General Services Administration, 1800 F Street NW (Mail-code: MG), Washington, DC 20405, at ken.sandler@gsa.gov or 202-219-1121. Additional information about the Committee, including meeting materials and agendas, will be available on-line at https://www.gsa.gov/gbac.

SUPPLEMENTARY INFORMATION:

Procedures for Attendance

Contact Dr. Ken Sandler at ken.sandler@gsa.gov to register to attend this public web-based meeting. To register, submit your full name, organization, email address and phone number. Requests to attend the web-based meeting must be received by 5:00 p.m. ET, on Tuesday, April 12, 2022. Meeting call-in information will be provided to interested parties who register by the deadline. (GSA will be unable to provide technical assistance to any listener experiencing technical difficulties. Testing access to the web-based meeting site before the meetings is recommended.) Contact Dr. Sandler to register to provide public comment during the April 18, 2022 meeting public comment period. Attendees registered to provide public comment will be allowed a maximum of five minutes each and will need to provide written copies of their comments. Requests to provide public comment at the Committee meeting must be received by 5:00 p.m. ET, on Tuesday, April 12, 2022. To request for an accommodation, such as closed captioning, or to ask about accessibility, please contact Mr. Bryan Steverson at bryan.steverson@gsa.gov by Monday, April 4, 2022 to give GSA as much time as possible to process the request.

Background

The Administrator of GSA established the Committee on June 20, 2011 (Federal Register/Vol. 76, No. 118) pursuant to Section 494 of the Energy Independence and Security Act of 2007 (42 U.S.C. 17123). Under this statute, the Committee provides independent policy advice and recommendations to GSA to advance federal building innovations in planning, design, and operations to reduce costs, enable agency missions, enhance human health and performance, and minimize environmental impacts.

April 18, 2022 Meeting Agenda

• Updates and Introductions

• Update on Embodied Carbon

• Environmental Justice and Equity for Federal Green Buildings Task Group: Proposed Advice Letter

• Federal Building Decarbonization Task Group: Proposed Advice Letter and Update

• Executive Order 14057: Update and Discussion

• New Committee Topics and Directions

• Public Comment

• Next Steps and Closing Comments

Kevin Kampschroer,
Federal Director, Office of Federal High-Performance Green Buildings, Office of Government-wide Policy, General Services Administration.

[FR Doc. 2022-06040 Filed 3-21-22; 8:45 am]

BILLING CODE 6820-14-P